DEPARTMENT OF HOMELAND SECURITY

Coast Guard

[USCG-2004-18840]

Merchant Marine Personnel Advisory Committee

AGENCY: Coast Guard, DHS.

ACTION: Notice of meetings.

SUMMARY: The Merchant Marine Personnel Advisory Committee (MERPAC) and its working groups will meet to discuss various issues relating to the training and fitness of merchant marine personnel. MERPAC advises the Secretary of Homeland Security on matters relating to the training, qualifications, licensing, and certification of seamen serving in the U.S. merchant marine. All meetings will be open to the public.

DATES: MERPAC will meet on Monday, September 20, 2004, from 8:30 a.m. to 4 p.m. and on Tuesday, September 21, 2004, from 8:30 a.m. to 4 p.m. These meetings may adjourn early if all business is finished. Requests to make oral presentations should reach the Coast Guard on or before September 6, 2004. Written material and requests to have a copy of your material distributed to each member of the committee or subcommittee should reach the Coast Guard on or before September 6, 2004.

ADDRESSES: MERPAC will meet on both days in the Atherton Halau of the Bishop Museum, 1525 Bernice St., Honolulu, HI 96817. Further directions regarding the location of the Bishop Museum may be obtained by contacting (808) 323-3318. Send written material and requests to make oral presentations to Mr. Mark Gould, Commandant (G-MSO-1), U.S. Coast Guard Headquarters, 2100 Second Street SW., Washington, DC 20593-0001. This notice is available on the Internet at http://dms.dot.gov.

FOR FURTHER INFORMATION CONTACT: For questions on this notice, contact Mr. Mark C. Gould, Assistant to the Executive Director, telephone (202) 267-6890, fax (202) 267-4570, or e-mail mgould@comdt.uscg.mil.

SUPPLEMENTARY INFORMATION: Notice of these meetings is given under the Federal Advisory Committee Act, 5 U.S.C. App. 2 (Pub. L. 92-463, 86 Stat. 770, as amended).

Agenda of Meeting on September 20, 2004

The full committee will meet to discuss the objectives for the meeting. The committee will then break up into the following working groups as necessary: Task statement 30, concerning utilizing military sea service for STCW certifications; Task statement 36, concerning recommendations on a training program for officers in charge of an engineering watch coming up through the hawsepipe; Task statement 40, concerning methods to determine the date at which a mariner established competency in Basic Safety Training in light of National Maritime Policy Letter 12-01; Task statement 43, concerning recommendations on a training and assessment program for able-bodied seamen on sea-going vessels in preparation for discussions of this issue at the Subcommittee on Standards of Training and Watchkeeping at the International Maritime Organization; and Task statement 46, review of the draft Navigation and Vessel Inspection Circular concerning the medical standards applicable to merchant mariners. These task statements may be viewed at the MERPAC website at http://www.uscg.mil/hq/g-m/advisory/merpac/merpac.htm.

New working groups may be formed to address issues proposed by the Coast Guard, MERPAC members, or the public. At the end of the day, the working groups will make a report to the full committee on what has been accomplished in their meetings. No action will be taken on these reports on this date.

Agenda of Meeting on September 21, 2004

The agenda comprises the following:

(1) Introduction.

(2) Working Groups' Reports

(a) Task Statement 30, concerning Utilizing military sea service for STCW certifications.

(b) Task Statement 36, concerning Recommendations on a training program for officers in charge of an engineering watch coming up through the hawsepipe.

(c) Task statement 40, concerning Qualifications in Basic Safety Training.

(d) Task Statement 43, concerning Recommendations on a training and assessment program for able-bodied seamen on sea-going vessels.

(e) Task Statement 46, concerning Review of the draft Navigation and Vessel Inspection Circular concerning the medical standards applicable to merchant mariners.

(f) Other task statements which may have been adopted for discussion and action.

(3) Other items to be discussed:

(a) Standing Committee—Prevention Through People.

(b) Briefings concerning on-going projects of interest to MERPAC.

(c) Other items brought up for discussion by the committee or the public.

Procedural

Both meetings are open to the public. Please note that the meetings may adjourn early if all business is finished. At the Chair's discretion, members of the public may make oral presentations during the meetings. If you would like to make an oral presentation at a meeting, please notify Mr. Mark Gould no later than September 6, 2004. Written material for distribution at a meeting should reach the Coast Guard no later than September 6, 2004. If you would like a copy of your material distributed to each member of the committee or subcommittee in advance of the meeting, please submit 25 copies to Mr. Gould no later than September 6, 2004.

Information on Services for Individuals with Disabilities

For information on facilities or services for individuals with disabilities or to request special assistance at the meetings, contact Mr. Gould as soon as possible.

Dated: August 9, 2004.
Howard L. Hime,
Acting Director of Standards, Marine Safety, Security and Environmental Protection.

[FR Doc. 04-19159 Filed 8-19-04; 8:45 am]

BILLING CODE 4910-15-P